SUSQUEHANNA RIVER BASIN COMMISSION

Commission Meeting

AGENCY: Susquehanna River Basin Commission.

ACTION: Notice.

SUMMARY: The Susquehanna River Basin Commission will hold its regular business meeting on March 6, 2014, in Harrisburg, Pennsylvania. Details concerning the matters to be addressed at the business meeting are contained in the Supplementary Information section of this notice.

DATES: March 6, 2014, at 8:30 a.m.

ADDRESSES: North Office Building, Hearing Room 1 (Ground Level), North Street (at Commonwealth Avenue), Harrisburg, Pa. 17120

FOR FURTHER INFORMATION CONTACT: Richard A. Cairo, General Counsel, telephone: (717) 238-0423, ext. 1306; fax: (717) 238-2436.

SUPPLEMENTARY INFORMATION: The business meeting will include actions or presentations on the following items: (1) Informational presentation on efforts to restore migratory fish passage on the lower Susquehanna River; (2) rulemaking action on revised emergency water use provisions; (3) memorandum of understanding with New York State facilitating coordinated regulatory activities; (4) revision of FY-2015 budget; (5) ratification/approval of contracts/grants; (6) ratification of settlement agreement pertaining to Federal Energy Regulatory Commission (FERC) licensing of York Haven Hydroelectric project, and authorization to execute on behalf of the Commission additional contemplated settlement agreements under FERC licensing procedures (7) Inflection Energy, LLC and Talisman Energy USA regulatory compliance matters; and (8) Regulatory Program projects. Projects listed for Commission action are those that were the subject of a public hearing conducted by the Commission on February 6, 2014, and identified in the notice for such hearing, which was published in 79 FR 2243, January 13, 2014.

Opportunity to Appear and Comment:

Interested parties are invited to attend the business meeting and encouraged to review the Commission's Public Meeting Rules of Conduct, which are posted on the Commission's Web site, www.srbc.net. Written comments on the projects that were the subject of the public hearing, and are listed for action at the business meeting, are subject to a comment deadline of February 18, 2014.Written comments pertaining to any other matters listed for action at the business meeting may be mailed to the Susquehanna River Basin Commission, 4423 North Front Street, Harrisburg, Pennsylvania 17110-1788, or submitted electronically through http://www.srbc.net/pubinfo/publicparticipation.htm. Any such comments mailed or electronically submitted must be received by the Commission on or before February 28, 2014, to be considered.

Authority: Pub. L. 91-575, 84 Stat. 1509 et seq., 18 CFR Parts 806, 807, and 808.

Dated: February 4, 2014.
Stephanie L. Richardson,
Secretary to the Commission.

[FR Doc. 2014-02983 Filed 2-14-14; 8:45 am]

BILLING CODE 7040-01-P